DEPARTMENT OF THE INTERIOR

National Park Service

60-Day Notice of Intention to Request Clearance of Collection of Information—Opportunity for Public Comment

AGENCY: Department of the Interior, National Park Service, Land and Water Conservation Fund State Assistance and Urban Park and Recreation Recovery Programs.

ACTION: Notice of submission to the Office of Management and Budget (OMB) and request for comments.

SUMMARY: Under the provisions of the Paperwork Reduction Act of 1995 (Pub. L. 104-13, 44 U.S.C. 3507) and 5 CFR 1320, Reporting and Recordkeeping Requirements, the National Park Service (NPS) invites public comments on eight proposed information collection requests (ICR) for the Land and Water Conservation Fund (LWFC) and Urban Park and Recreation Recovery (UPARR) grant programs. The NPS also is asking for comments on (1) the practical utility of the information being gathered; (2) the accuracy of the burden hour estimate; (3) ways to enhance the quality, utility, and clarity of the information to be collected; and (4) ways to minimize the burden to respondents, including use of automated information collection techniques or other forms of information technology. Comments are invited on the following:

1. LWCF Description and Notification (DNF) Form. The DNF is necessary to provide data input into the NPS Automated Project information system which provides timely data on projects funded over the life of the LWCF program.

2. LWCF Program Performance Report. As required by OMB Circular A-102, grantees must submit performance reports which describe the status of the work required under the project scope.

3. LWCF project Agreement and Amendment Form. The Project Agreement and Amendment forms set forth the obligations assumed by the State through its acceptance of Federal assistance under the LWCF Act and any special terms and conditions.

4. LWCF On-Site Inspection Report. The On-site Inspection Reports are used to insure compliance by grantees with applicable Federal law and program guidelines, and to insure the continued viability of the funded site.

5. LWCF Conversion of Use Provisions. To convert assisted sites to other than public outdoor recreation. LWCF project sponsors must provide relevant information necessary to comply with Section 6(f)(3) of the LWCF Act of 1965 and 36 CFR 59.3.

6. UPARR Project Performance Report. As required by OMB Circular A-102, grant recipients must submit performance reports which describe the status of the work required under the project scope.

7. UPARR Conversion of Use Provisions. To convert assisted sites to other than public outdoor recreation, UPARR project sponsors must provide relevant information necessary to comply with the section 1010 of the UPARR Act of 1978 and 36 CFR 72.

8. UPARR Project Agreement and Amendment Form. The Project agreement and amendment forms set forth the obligations assumed by grant recipients through their acceptance of Federal Assistance under the UPARR Act and any special terms and conditions.

DATES: Public comments on these eight proposed ICRs will be accepted on or before January 5, 2004.

ADDRESSES: Send a copy of your comments to: Michael D. Wilson, Chief, Recreation Programs Division, National Park Service, 1849 C St., NW. Org. Code 2225, Washington, DC 20240-0001.

All responses to this notice will be summarized and included in the requests for Office of Management and Budget (OMB) approval. All comments will become a matter of public record. Copies of the proposed information collection requirements and explanatory material may be obtained by contacting Mr. Michael D. Wilson at the above address.

FOR FURTHER INFORMATION CONTACT: Michael D. Wilson at (202) 354-6905.

Title: LWCF Description and Notification Form (DNF).

Form: NPS 10-903.

OMB Number: 1024-0031.

Expiration Date: February 29, 2004.

Type of Request: Data Input.

Description of Need: Provision of computer data.

Description of Respondents: 56 State Governments, DC and Territories.

Estimated Annual; Reporting Burden: 115 hours.

Estimated Average Burden Hours Per Response: 0.25 hours.

Estimated Frequency of Response: 450 nationwide.

Title: LWCF Program Performance Report.

Form: None.

OMB Number: 1024-0032.

Expiration Date: February 29, 2004.

Type of Request: Performance report describing project status.

Description of Need: For monitoring project status.

Description of Respondents: 56 State Governments, DC and Territories.

Estimated Annual; Reporting Burden: 700 hours.

Estimated Average Burden Hours Per Response: 1.0 hours.

Estimated Frequency of Response: 700 nationwide.

Title: LWCF Project Agreement and Amendment Forms.

Form: NPS 10-902 and 10-902a, respectively.

OMB Number: 1024-0033.

Expiration Date: February 29, 2004.

Type of Request: Grant agreement.

Description of Need: Sets forth conditions of the grant award and subsequent amendments.

Description of Respondents: 56 State Governments, DC and Territories.

Estimated Annual Reporting Burden: 450 hours.

Estimated Average Burden Hours Per Response: 1.0 hours.

Estimated Frequency of Response: 450 nationwide.

Title: LWCF On-Site Inspection Report.

Form: None.

OMB Number: 1024-0034

Expiration Date: February 29, 2004.

Type of Request: Site condition/comment checklist.

Description of Need: To assure program/grant/Federal compliance.

Description of Respondents: 56 State Governments, DC and Territories.

Estimated Annual Reporting Burden: 3,700 hours.

Estimated Average Burden Hours Per Response: 0.5 hours.

Estimated Frequency of Response: 7,400 nationwide.

Title: LWCF Conversion of Use Provisions.

Form: None.

OMB Number: 1024-0047

Expiration Date: February 29, 2004.

Type of Request: Application to substitute replacement property for the funded site.

Description of Need: Compliance with LWCF Act Section 6(f)(3).

Description of Respondents: 56 State Governments, DC and Territories.

Estimated Average Burden Hours Per Response: 1,750 hours.

Estimated Frequency of Response: 35 hours.

Estimated Frequency of Response: 50 nationwide.

Title: UPARR Project Performance Report.

Form: None.

OMB Number: 1024-0028

Expiration Date: February 29, 2004.

Type of Request: Performance report describing project status.

Description of Need: For monitoring project status.

Description of Respondents: Urban cities and counties.

Estimated Annual Reporting Burden: 248 hours.

Estimated Average Burden Hours Per Response: 1.5 hours.

Estimated Frequency of Response: 164 nationwide.

Title: UPARR Conversion of Use Provisions.

Form: None.

OMB Number: 1024-0048.

Expiration Date: February 29, 2004.

Type of Request: Application to substitute replacement property for the funded site.

Description of Need: Compliance with UPARR Act Section 1010.

Description of Respondents: Urban cities and counties.

Estimated Annual Reporting Burden: 75 hours.

Estimated Average Burden Hours Per Response: 25 hours.

Estimated Frequency of Response: 3 nationwide.

Title: UPARR Project Agreement and Amendment Forms.

Form: NPS 10-912 and 10-915, respectively.

OMB Number: 1024-0089.

Expiration Date: February 29, 2004.

Type of Request: Grant agreement.

Description of Need: Sets forth conditions of the grant award and subsequent amendments.

Description of Respondents: Urban cities and counties.

Estimated Annual Reporting Burden: 20 hours.

Estimated Average Burden Hours Per Response: 1.0 hours.

Estimated Frequency of Response: 20 nationwide.

Dated: September 24, 2003.
Leonard E. Stowe,
NPS Information Collection Clearance Officer, WASO, Administrative Program Center.

[FR Doc. 03-27718 Filed 11-4-03; 8:45 am]

BILLING CODE 4312-53-M